DEPARTMENT OF DEFENSE

Office of the Secretary

Board of Visitors, National Defense University; Notice of Federal Advisory Committee Meeting

AGENCY: Office of the Chairman of the Joint Chiefs of Staff, Department of Defense (DoD).

ACTION: Notice of Federal Advisory Committee meeting.

SUMMARY: The DoD is publishing this notice to announce that the following Federal Advisory Committee meeting of the Board of Visitors, National Defense University will take place.

DATES: Tuesday, May 24, 2022 from 10:00 a.m. to 3:15 p.m. and Wednesday, May 25, 2022 from 10:30 a.m. to 12:00 p.m.

ADDRESSES: Marshall Hall, Building 62, the National Defense University, 300 5th Avenue SW, Fort McNair, Washington, DC 20319-5066. Visitors should report to the Front Security Desk in the lobby of Marshall Hall and from there, they will be directed to the meeting room.

FOR FURTHER INFORMATION CONTACT: Dr. John W. Yaeger, (202) 664-2629 (Voice), john.w.yaeger.civ@mail.mil; yaegerj@ndu.edu; Ms. Joycelyn Stevens, joycelyn.a.stevens.civ@mail.mil; stevensj7@ndu.edu (Email). Mailing address is National Defense University, Fort McNair, Washington, DC 20319-5066. Website: http://www.ndu.edu/About/Board-of-Visitors/. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150. Pursuant to 5 U.S.C. 552b and 41 CFR 102-3.140 through 102-3.165, this meeting is open to the public.

Purpose of the Meeting: The purpose of the meeting will include discussion on accreditation compliance, organizational management, strategic planning, resource management, and other matters of interest to the National Defense University.

Agenda: Tuesday, May 24, 2022 from 10:00 a.m. to 3:15 p.m. (Eastern Time): Call to Order and Administrative Notes; State of the University Address; Update on Reaffirmation of Middle States Commission on Higher Education (MSCHE) Accreditation; NDU Strategic Plan; Budget Overview; Facilities. Wednesday, May 25, 2022 from 10:30 a.m. to 12:00 p.m. (Eastern Time): Public Comment; Board of Visitors Member Deliberation and Feedback; Wrap-up and Closing Remarks.

Meeting Accessibility

Base Access Requirements: All visitors without a U.S. DoD Common Access Card (CAC) or U.S. military ID must be vetted in advance in order to gain entry onto the base. Per the U.S. Army, all non-DoD civilians are required to have a background check before being allowed on a military installation; better known as vetting. (Procedure can take between 5 to 45 minutes).

For Pre-Vetting

(1) Pre-vetting (due no earlier than 20 days, and no later than 10 days before the event):

(a) If the visitor does not have a U.S. driver's license:

(i) That visitor will not be able to utilize the online feature, and must fill out the paper application and return same to their sponsor for submission to the JBM-HH Visitor Control Center (VCC).

(1) Submit the JBM-HH Request for Support Form (Form 7) and the Special Events Visitor List (190-16f) for all non-DoD, to the Installation Operations Center and to NDU.

(2) Upon JBM-HH assessment, the Installation Operations Center will determine if this is an authorized or unauthorized event: Notification (by email) to JBM-HH DES, JBM-HH VCC, and to the customer.

(3) Upon the customer receiving the authorized event notice, they will then either pre-vett through the online website, or the completed JBM-HH Form 190-6x, (Installation Access Request) and return the written application back to the Visitor Control Center for processing.

(4) The Visitor Control Center will perform background checks on the applications of the event, and then return a clearance document back to the customer so they inform those who didn't meet the screening requirements that they are not allowed on the installation.

(5) The Visitor Control Center provides the approved screening list to the Gate Guards for allowed access, however, they are still subject to search.

(b) If the visitor has a valid U.S. driver's license:

(i) Pre-vetting can be conducted online (best option) at https://pass.aie.army.mil/jbmhh/ or in person at JBM-HH VCC.

Hours of operation for Visitor Control Center (VCC/Police Substation—Building 65) are Monday through Friday from 8:00 a.m. to 4:00 p.m. Outside of those hours of operation, vetting will be conducted from the Guard search station on a 24-hour basis.

For vetting the day of the event:

(1) Visitor will not be able to utilize the online feature, and must fill out the paper application and return same to their sponsor for submission to the JBM-HH VCC.

(a) Submit the JBM-HH Request for Support Form (Form 7) and the Special Events Visitor List (190-16f) for all non-DoD, to the Installation Operations Center and to NDU.

(b) Upon JBM-HH assessment, the Installation Operations Center will determine if this is an authorized or unauthorized event: Notification (by email) to JBM-HH DES, JBM-HH VCC, and to the customer.

(c) Upon the customer receiving the authorized event notice, they will then either pre-vett through the online website, or the completed JBM-HH Form 190-6x, (Installation Access Request) and return the written application back to the VCC for processing.

(d) The VCC will perform background checks on the applications of the event, and then return a clearance document back to the customer so they inform those who didn't meet the screening requirements that they are not allowed on the installation.

(e) The VCC provides the approved screening list to the Gate Guards for allowed access, however, they are still subject to search.

Vehicle Search: Non-DoD/non-federally affiliated visitors' vehicles are subject to search.

Written Statements: Pursuant to 41 CFR 102-3.105(j) and 102-3.140, and section 10(a)(3) of the Federal Advisory Committee Act of 1972, written statements to the committee may be submitted to the committee at any time or in response to a stated planned meeting agenda by FAX or email to Ms. Joycelyn Stevens at (202) 685-0079, Fax (202) 685-3920 or StevensJ7@ndu.edu.

Dated: April 29, 2022.
Aaron T. Siegel,
Alternate OSD Federal Register Liaison Officer, Department of Defense.

[FR Doc. 2022-09594 Filed 5-4-22; 8:45 am]

BILLING CODE 5001-06-P